DEPARTMENT OF COMMERCE

Foreign-Trade Zones Board

[B-11-2024]

Foreign-Trade Zone (FTZ) 39, Notification of Proposed Production Activity; Trina Solar US Manufacturing Module 1 LLC; (Solar Panels), Wilmer, Texas

The Dallas/Fort Worth International Airport Board, grantee of FTZ 39, submitted a notification of proposed production activity to the FTZ Board (the Board) on behalf of Trina Solar US Manufacturing Module 1 LLC for its facility in Wilmer, Texas under FTZ 39. The notification conforming to the requirements of the Board's regulations (15 CFR 400.22) was received on March 12, 2024.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz. The proposed finished product(s) and material(s)/component(s) would be added to the production authority that the Board previously approved for the operation, as reflected on the Board's website.

The proposed finished products are solar panels (duty-free).

The proposed foreign-status materials and components include: aluminum frames; ethylene vinyl acetate (EVA); junction boxes for voltages not exceeding 1000 volts; junction boxes for voltages exceeding 1000 volts; silica gel; assembled solar cells; unassembeled solar cells; soldiering tape; and tempered glass (duty rate ranges from duty-free to 5%). The request indicates that certain components are subject to an antidumping/countervailing duty (AD/CVD) order/investigation if imported from certain countries. The Board's regulations (15 CFR 400.14(e)) require that merchandise subject to AD/CVD orders, or items which would be otherwise subject to suspension of liquidation under AD/CVD procedures if they entered U.S. customs territory, be admitted to the zone in privileged foreign (PF) status (19 CFR 146.41). The request also indicates that certain components are subject to duties under section 201 of the Trade Act of 1974 (section 201), or section 301 of the Trade Act of 1974 (section 301), depending on the country of origin. The applicable section 201 and section 301 decisions require subject merchandise to be admitted to FTZs in PF status.

Public comment is invited from interested parties. Submissions shall be addressed to the Board's Executive Secretary and sent to: ftz@trade.gov. The closing period for their receipt is April 24, 2024.

A copy of the notification will be available for public inspection in the “Online FTZ Information System” section of the Board's website.

For further information, contact Kolade Osho at Kolade.Osho@trade.gov.

Dated: March 12, 2024.
Elizabeth Whiteman,
Executive Secretary.

[FR Doc. 2024-05589 Filed 3-14-24; 8:45 am]

BILLING CODE 3510-DS-P